FARM CREDIT ADMINISTRATION

Sunshine Act Meeting

Farm Credit Administration Board

AGENCY: Farm Credit Administration.

ACTION: Notice, regular meeting.

SUMMARY: Notice is hereby given, pursuant to the Government in the Sunshine Act, of the forthcoming regular meeting of the Farm Credit Administration Board.

DATES: Date and Time: The regular meeting of the Board will be held August 13, 2020, from 9:00 a.m. until such time as the Board may conclude its business. Note: Because of the COVID-19 pandemic, we will conduct the board meeting virtually. If you would like to observe the open portion of the virtual meeting, see instructions below for board meeting visitors.

ADDRESSES: Attendance: To observe the open portion of the virtual meeting, go to FCA.gov, select “Newsroom,” then “Events.” There you will find a description of the meeting and a link to “Instructions for board meeting visitors.” See SUPPLEMENTARY INFORMATION for further information about attendance requests.

FOR FURTHER INFORMATION CONTACT: Dale Aultman, Secretary to the Farm Credit Administration Board (703) 883-4009. TTY is (703) 883-4056.

SUPPLEMENTARY INFORMATION: This meeting of the Board will be open to the public. If you wish to observe, follow the instructions above in the “Attendance” section at least 24 hours before the meeting. If you need assistance for accessibility reasons or if you have any questions, contact Dale Aultman, Secretary to the Farm Credit Administration Board, at (703) 883-4009. The matters to be considered at the meeting are as follows:

Open Session

A. Approval of Minutes

• July 16, 2020

B. Reports

• Annual Report on Farm Credit System's Young, Beginning, and Small Farmer Mission Performance: 2019 Results

New Business

• Investment Eligibility Final Rule

• Amortization Final Rule

Dated: August 5, 2020.
Dale Aultman,
Secretary, Farm Credit Administration Board.

[FR Doc. 2020-17410 Filed 8-5-20; 4:15 pm]

BILLING CODE 6705-01-P